DEPARTMENT OF COMMERCE

Foreign-Trade Zones Board

[Docket 34-2000]

Proposed Foreign-Trade Zone—Pensacola/Escambia County, Florida Area Application and Public Hearing

An application has been submitted to the Foreign-Trade Zones (FTZ) Board (the Board) by the Pensacola-Escambia County Promotion and Development Commission, a Florida public corporation, to establish a general-purpose foreign-trade zone at sites in the Pensacola and Escambia County, Florida area, within/adjacent to the Pensacola Customs port of entry. The application was submitted pursuant to the provisions of the FTZ Act, as amended (19 U.S.C. 81a-81u), and the regulations of the Board (15 CFR part 400). It was formally filed on July 6, 2000. The applicant is authorized to make the proposal under Section 288.36, Florida Statutes 1999.

The proposed new zone would consist of five sites covering 1,660 acres in the Escambia County and Pensacola metropolitan area: Site 1 (40 acres)—Port of Pensacola (owned by the City of Pensacola), 700 S. Barracks Street, Pensacola; Site 2 (1,400 acres)—Pensacola Regional Airport complex (owned by the City of Pensacola), 2430 Airport Boulevard, Pensacola; Site 3 (70 acres)—Pensacola Shipyard Marine Complex (owned by FDC Holdings, Inc.), 700 South Myrick Street, Pensacola; Site 4 (10 acres)—FDC Industrial Warehouse site (owned by FDC Holdings, Inc.), 10 Spruce Street, Pensacola; and, Site 5 (140 acres)—Century Industrial Park (owned by the Town of Century), Escambia County Road ×4 and Industrial Boulevard, Century. Site 4 is in a brownfield redevelopment area that is being funded by EPA and the State of Florida. Site 5 is located in an enterprise zone.

The application indicates a need for additional foreign-trade zone services in the Pensacola and Escambia County, Florida area. Several firms have indicated an interest in using zone procedures for warehousing/distribution of such items as forest products, paper products, cabinets, marine electrical systems and components, and custom modified gas chromatography equipment for the petroleum, chemical and petrochemical industries. Specific manufacturing approvals are not being sought at this time. Requests would be made to the Board on a case-by-case basis.

In accordance with the Board's regulations, a member of the FTZ Staff has been designated examiner to investigate the application and report to the Board.

As part of the investigation, the Commerce examiner will hold a public hearing on August 9, 2000, 1:00 p.m., at the Pensacola City Hall, Whibbs Room, First Floor, Pensacola, Florida 32501.

Public comment on the application is invited from interested parties. Submissions (original and 3 copies) shall be addressed to the Board's Executive Secretary at the address below. The closing period for their receipt is September 11, 2000. Rebuttal comments in response to material submitted during the foregoing period may be submitted during the subsequent 15-day period (to September 26, 2000).

A copy of the application and accompanying exhibits will be available during this time for public inspection at the following locations:

Office of the Pensacola Area Chamber of Commerce, 117 West Garden Street, Pensacola, FL 32501

Office of the Executive Secretary, Foreign-Trade Zones Board, Room 4008, U.S. Department of Commerce, 14th and Pennsylvania Avenue, NW., Washington, DC 20230

Dated: July 7, 2000.
Dennis Puccinelli,
Executive Secretary.

[FR Doc. 00-17764 Filed 7-12-00; 8:45 am]

BILLING CODE 3510-DS-P